DEPARTMENT OF HEALTH AND HUMAN SERVICES

National Institutes of Health

Center for Scientific Review; Amended Notice of Meeting

Notice is hereby given of a change in the meeting of the Center for Scientific Review Special Emphasis Panel, Fellowships: Immunology, July 16, 2020, 08:00 a.m. to July 17, 2020, 05:00 p.m., National Institutes of Health, Rockledge II, 6701 Rockledge Drive, Bethesda, MD, 20892 which was published in the Federal Register on June 17, 2020, 85 FR 36606.

This notice is being amended to change the meeting time from 08:00 a.m. to 05:00 p.m. to 09:00 a.m. to 05:00 p.m. Meeting Date and Location remain the same. The meeting is closed to the public.

Dated: June 18, 2020.
Ronald J. Livingston, Jr.,
Program Analyst, Office of Federal Advisory Committee Policy.

[FR Doc. 2020-13547 Filed 6-23-20; 8:45 am]

BILLING CODE 4140-01-P